DEPARTMENT OF STATE

[Public Notice 6388]

Bureau of Educational and Cultural Affairs (ECA); Request for Grant Proposals: International Arrival and Departure Program

Announcement Type: New Cooperative Agreement.

Funding Opportunity Number: ECA/PE/V/C/R-09-01.

Catalog of Federal Domestic Assistance Number: 19.402.

Key Dates: January 1, 2009 through September 30, 2010.

Application Deadline: November 6, 2008.

Executive Summary: The Community Relations Branch of the Office of International Visitors, Bureau of Educational and Cultural Affairs (ECA/PE/V/C/R) invites proposal submissions for the design and implementation of an airport arrival and departure program at New York's John F. Kennedy (JFK) International Airport and New Jersey's Newark International Airport.

It is anticipated that a cooperative agreement for $195,000 will be awarded on or about January 1, 2009, pending availability of FY 2009 funds. This 18-month award will begin on or about January 1, 2009 and end September 30, 2010, and will be based on a combination of 500 incoming and outgoing flights between the two international points of entry stated above.

Proposed funding would support the following specific activities: Meet incoming International Visitor Leadership Program (IVLP) participants at JFK International Airport, New York, and assist them to their connecting flights; meet incoming IVLP participants at Newark International Airport, New Jersey, and assist participants to their connecting flights; provide assistance to outgoing IVLP participants, through U.S. Customs, at JFK International Airport, New York, and Newark International Airport, New Jersey; and liaise with U.S. Customs and Border Protection (CBP), Transportation Security Administration (TSA) officials, and Port Authority officials at both points of international entry in order to carry out scope of work under the cooperative agreement.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.'' The funding authority for the program above is provided through legislation.

Purpose: The Bureau of Educational and Cultural Affairs (ECA) is seeking detailed proposals for the airport arrival and departure program from not-for-profit organizations that have an established reputation and experience with:

(1) International airport arrivals and departures for official participants under the International Visitor Leadership Program or other international exchange and training programs;

(2) U.S. Customs and Border Protection (CBP), Department of Homeland Security;

(3) Transportation Security Administration (TSA);

(4) National Security Entry and Exit Registration System (NSEERS) and requirements;

(5) International airport facilities and services;

(6) Airport security regulations;

(7) U.S. Department of State Diplomatic Security to secure background checks and badges;

(8) Port Authority Officials to secure background checks and badges;

(9) Recruiting, interviewing, selecting, hiring, training, monitoring of international airport arrivals Reception Officers;

(10) Accessing the Federal Inspections areas;

(11) Handling groups and individuals, especially from the Middle East who are subject to the NSEERS process.

In a cooperative agreement, ECA is substantially involved in program activities above and beyond routine grant monitoring. ECA activities and responsibilities for this program are as follows: Washington Office: Community Relations Branch, ECA/PE/V/C/R:

A. Provides flight manifests to Department of Homeland Security (DHS) and Transportation Security Administration (TSA), for clearance, prior to airport reception approval.

B. Clears all reception officers for entry to restricted zones at JFK International Airport, New York and at Newark International Airport, New Jersey.

New York Office: New York Program Branch, ECA/PE/V/C/N:

A. Consults with DOS—ECA/PE/V Staff concerning all flight information, before requesting reception service from award recipient.

B. Prioritizes and finalizes all flight information for reception services and forwards to award recipient to implement for JFK International Airport, New York and Newark International Airport, New Jersey.

C. Communicates with award recipient concerning any missed flights, changed arrival time, no shows, cancellations, etc.

D. Sets up and secures DOS background security checks and DOS ID Badges for all award recipient contract reception officers.

II. Award Information

Type of Award: Cooperative Agreement.

Fiscal Year Funds: 2009.

Approximate Total Funding: $195,000.

Approximate Number of Awards: 1.

Approximate Average Award: $195,000.

Floor of Award Range: $195,000.

Ceiling of Award Range: $195,000.

Anticipated Award Date: On or around January 1, 2009, pending availability of FY 2009 funds.

Anticipated Project Completion Date: September 30, 2010.

Additional Information: Pending successful implementation of this program and the availability of funds in subsequent fiscal years, it is ECA's intent to renew this cooperative agreement for two additional fiscal years, before openly competing it again.

III. Eligibility Information

III.1. Eligible Applicants

Applications may be submitted by public and private not-for-profit organizations meeting the provisions described in Internal Revenue Code section 26 U.S.C. 501(c)(3).

III.2. Cost Sharing or Matching Funds

There is no minimum or maximum percentage required for this competition. However, ECA encourages applicants to provide maximum levels of cost sharing and funding in support of its programs.

When cost sharing is offered, it is understood and agreed that the applicant must provide the amount of cost sharing as stipulated in its proposal and later included in an approved cooperative agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a.) ECA grant guidelines require that organizations with less than four years experience in conducting international exchanges be limited to $60,000 in Bureau funding. ECA anticipates making one award, in an amount up to $195,000 to support program and administrative costs required to implement this exchange program. Therefore, organizations with less than four years experience in conducting international exchanges are ineligible to apply under this competition.

(b.) Technical Eligibility: All proposals must comply with the following or they will result in your proposal being declared technically ineligible and given no further consideration in the review process.

IV. Application and Submission Information

Note: Please read the complete Federal Register announcement before sending inquiries or submitting proposals. Once the RFGP deadline has passed, ECA staff may not discuss this competition with applicants until the proposal review process has been completed.

IV.1. Contact Information To Request an Application Package

Please contact the Community Relations Branch, Office of International Visitors, ECA/PE/V/C/R, Room 247, U.S. Department of State, SA-44, 301 4th Street, SW., Washington, DC 20547, telephone 202/453-8625, fax number 202/453-8631, or e-mail yateskf@state.gov to request a Solicitation Package. Please refer to the Funding Opportunity Number ECA/PE/V/C/R-09-01 located at the top of this announcement when making your request. Alternatively, an electronic application package may be obtained from grants.gov. Please see section IV.3f for further information.

The Solicitation Package contains the Proposal Submission Package, which consists of required application forms, and standard guidelines for proposal preparation.

It also contains the Project Objectives, Goals and Implementation (POGI) document, which provides specific information, award criteria and budget instructions tailored to this competition.

Please specify Program Manager Carmen Marrero, marrerocm@state.gov and refer to the Funding Opportunity Number ECA/PE/V/C/R-09-01 located at the top of this announcement on all other inquiries and correspondence.

IV.2. To Download a Solicitation Package Via Internet

The entire Solicitation Package may be downloaded from the Bureau's Web site at http://exchanges.state.gov/education/rfgps/menu.htm or from the Grants.gov Web site at http://www.grants.gov.

Please read all information before downloading.

IV.3. Content and Form of Submission

Applicants must follow all instructions in the Solicitation Package. The original and 10 copies of the application should be sent per the instructions under IV.3f. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please note: Effective March 14, 2008, all applicants for ECA federal assistance awards must include with their application, a copy of page 5, Part V-A, “Current Officers, Directors, Trustees, and Key Employees” of their most recent Internal Revenue Service (IRS) Form 990, “Return of Organization Exempt From Income Tax.” If an applicant does not file an IRS Form 990, but instead files Schedule A (Form 990 or 990-EZ)—“Organization Exempt Under Section 501(c)(3),” applicants must include with their application a copy of Page 1, Part 1, “Compensation of the Five Highest Paid Employees Other Than Officers, Directors and Trustees,” of their most recent Internal Revenue Service (IRS) Form—Schedule A (Form 990 or 990-EZ).

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements.

ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 203-5029, FAX: (202) 453-8640.

Please refer to Solicitation Package for further information.

IV.3d.2. Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicant is strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

We encourage you to assess the following two levels of outcomes, as they relate to the program goals set out in the RFGP (listed below):

1. Participant satisfaction with the program.

2. Institutional changes, such as increased collaboration and partnerships, new programming/activities, and organizational improvements.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups, etc.).

Award recipient will be required to provide reports of its evaluation findings to the Bureau in it regular program reports. Any data collected, including survey responses and contact information, if applicable, must be maintained for a minimum of three years and provided to the Bureau upon request.

IV.3d.4. For informational and planning purposes, we are informing all potential applicants that ECA is in the process of developing comprehensive approaches to alumni programming, Web portal development supported through ECA assistance awards (grants/cooperative agreements) and the expansion of private/public partnerships to increase the reach of ECA's exchange programs. In the event your proposal is recommended for funding, you may receive additional guidance/information related to these topics during the negotiation stage of the approval process.

In addition, all recipients of ECA grants or cooperative agreements should be prepared to state in any announcement or publicity where it is not inappropriate, that activities are assisted financially by the Bureau of Educational and Cultural Affairs of the United States Department of State under the authority of the Fulbright-Hays Act of 1961, as amended.

IV.3e. Please take the following information into consideration when preparing your budget:

Describe your overall program management, staffing and coordination with ECA/PE/V/C/R. ECA/PE/V/C/R considers program management, staffing and coordination with the Department of State essential elements of your program. Please be sure to give sufficient attention to these elements in your proposal. Please refer to the Technical Eligibility Requirements in section V. Application Review Information for specific guidelines.

IV.3e.1. Applicants must submit a comprehensive budget for the entire program. The award may not exceed $195,000. While there is no rigid ration of administrative to program costs, the Bureau urges applicant organizations to keep administrative costs as low and reasonable as possible. There must be a summary budget as well as breakdown reflecting both administrative and program budgets for FY 2009. Applicants may provide separate sub-budgets for each program component, phase, location, or activity to provide clarification.

IV.3e.2. Allowable costs for the program include the following:

(1) Recruitment, selection and training/orientations of airport reception officers and coordinator;

(2) Reimbursement of travel to and/or parking at airport for airport reception officers assigned to duty;

(3) Part-time seasonal (.5 Full-time equivalent or FTE) Contractor at the Federal General Schedule Level 12 (GS-12) for the New York area, not-to-exceed 1380 hours for the duration of the cooperative agreement, stationed at the U.S. Department of State' New York Program Branch to coordinate the airport reception program locally.

Please refer to the Solicitation Package for complete budget guidelines and formatting instructions.

IV.3f. Application Deadlines and Methods of Submission

Application Deadline Date: Monday, November 6, 2008.

Reference Number: ECA/PE/V/C/R -09-01.

Methods of Submission:

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicant must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

Applicant must follow all instructions in the Solicitation Package.

The original and 10 copies of the application should be sent to: U.S. Department of State, SA-44, Bureau of Educational and Cultural Affairs, Ref.: ECA/PE/V/C/R-09-01, Program Management, ECA/EX/PM, Room 534, 301 4th Street, SW., Washington, DC 20547.

IV.3f.2. Submitting Electronic Applications

Applicants have the option of submitting proposals electronically through Grants.gov (http://www.grants.gov). Complete solicitation packages are available at Grants.gov in the “Find” portion of the system. Please follow the instructions available in the 'Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov website includes extensive information on all phases/aspects of the Grants.gov process, including an extensive section on frequently asked questions, located under the “For Applicants” section of the website. ECA strongly recommends that all potential applicants review thoroughly the Grants.gov website, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the Program Plan and Ability to Achieve Program Objectives: Proposals should exhibit originality, substance, precision, and relevance to the Bureau's mission. The program director and key program staff must have expert knowledge of international airport arrivals and departure activities and qualifications to perform these services. Detailed agenda and relevant work plan should demonstrate substantive undertakings and logistics.

Objectives should be reasonable, feasible, and flexible. Your proposal should clearly demonstrate how the institution will meet the program's objectives and plan.

2. Support of Diversity: Proposals should demonstrate substantive support of the Bureau's policy on diversity. Achievable and relevant features should be cited in both program administration (selection of participants, program venue and program evaluation) and program content (orientation and wrap-up sessions, program meetings, resource materials and follow-up activities).

3. Institutional Track Record/Ability: Proposals should demonstrate an institutional record of successful exchange programs, including responsible fiscal management and full compliance with all reporting requirements for past Bureau grants and/or cooperative agreements as determined by Bureau Grants Staff. The Bureau will consider the past performance of prior recipients and the demonstrated potential of new applicants. Proposed personnel and institutional resources should be fully qualified to achieve the project's goals.

4. Evaluation: Proposals should include a plan to evaluate the activity's success, both as the activities unfold and at the end of the program. A draft survey questionnaire or other technique plus description of a methodology to use to link outcomes to original project objectives is recommended.

5. Cost-effectiveness/Cost Sharing: The overhead and administrative components of the proposal, including salaries and honoraria, should be kept as low as possible. All other items should be necessary and appropriate. Proposals should maximize cost-sharing through other private sector support, as well as institutional direct funding contributions.

VI. Award Administration Information

VI.1a. Award Notices

Final awards cannot be made until funds have been appropriated by Congress, allocated and committed through internal Bureau procedures. Successful applicant will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations

Please reference the following Web sites for additional information:

http://www.whitehouse.gov/omb/grants.

http://fa.statebuy.state.gov

VI.3. Reporting Requirements

You must provide ECA with a hard copy original plus two copies of the following reports:

Mandatory:

(1.) A final program and financial report no more than 90 days after the expiration of the award;

(2.) A concise, one-page final program summarizing program outcomes no more than 90 days after the expiration of the award. This one-page report will be transmitted to OMB, and be made available to the public via OMB's USAspending.gov website—as part of ECA's Federal Funding Accountability and Transparency Act (FFATA) reporting requirements.

(3.) Quarterly financial reports are due within thirty (30) days following the end of the calendar year quarter for all services under this agreement. Airport receptions statistical reports are due within 15 days after the close of the previous month's activities. These reports (use Microsoft Word only) must list separately the number of visitors/flights met at both John F. Kennedy International Airport, New York, and Newark International Airport, New Jersey, date, visitor name, flight, name of assigned greeter(s) and whether or not ECA/PE/V is charged and how much is paid to each reception officer for each flight met i.e. if more than one visitor is on a flight, only one charge is made for airport reception, and any expenses incurred, such as miscellaneous parking or other incurred expense covered under the agreement. The reports must be submitted to ECA/PE/V/C/R and to ECA-IIP/EX/G.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Carmen Marrero, Chief, Community Relations Branch, Office of International Visitors, ECA/PE/V/C/R, Room Number 247, Reference Number ECA/PE/V/C/R-09-01, U.S. Department of State, SA-44, 301 4th Street, SW., Washington, DC 20547, telephone 202/453-8629, fax number 202/453-8631, marrerocm@state.gov.

All correspondence with the Bureau concerning this RFGP should reference the above title and number (ECA/PE/V/C/R-09-01).

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 2, 2008.
Goli Ameri,
Assistant Secretary for Educational and Cultural Affairs, Department of State.

[FR Doc. E8-24020 Filed 10-8-08; 8:45 am]

BILLING CODE 4710-05-P